DEPARTMENT OF HEALTH AND HUMAN SERVICES

Office of the Secretary

45 CFR Part 160

General Administrative Requirements

CFR Correction

In Title 45 of the Code of Federal Regulations, Parts 1 to 199, revised as of October 1, 2013, on page 983, in § 160.103, a definition of Manifestation or manifested is added in alphabetical order to read as follows:

§ 160.103 Definitions.

* * * * *

Manifestation or manifested means, with respect to a disease, disorder, or pathological condition, that an individual has been or could reasonably be diagnosed with the disease, disorder, or pathological condition by a health care professional with appropriate training and expertise in the field of medicine involved. For purposes of this subchapter, a disease, disorder, or pathological condition is not manifested if the diagnosis is based principally on genetic information.

* * * * *

[FR Doc. 2014-15102 Filed 6-26-14; 8:45 am]

BILLING CODE 1505-01-D